CONSUMER PRODUCT SAFETY COMMISSION

Sunshine Act Meetings

TIME AND DATE: Wednesday, April 5, 2023-10:00 a.m.

PLACE: The meeting will be held remotely, and in person at 4330 East West Highway, Bethesda, Maryland 20814.

STATUS: Commission Meeting—Open to the Public.

MATTERS TO BE CONSIDERED: Decisional Matter: Supplemental Notice of Proposed Rulemaking: Safety Standard for Portable Generators. To attend virtually, please follow instructions found at the link below. https://cpscevents.webex.com/weblink/register/r766627cdc0abd06cc6aaf5e814ce81bf.

CONTACT PERSON FOR MORE INFORMATION: Alberta E. Mills, Office of the Secretary, U.S. Consumer Product Safety Commission, 4330 East West Highway, Bethesda, MD 20814, 301-504-7479 (Office) or 240-863-8938 (Cell).

Dated: March 29, 2023.
Alberta E. Mills,
Commission Secretary.

[FR Doc. 2023-06915 Filed 3-30-23; 11:15 am]

BILLING CODE 6355-01-P